OFFICE OF THE UNITED STATES TRADE REPRESENTATIVE

[Docket No. WTO/DS420]

WTO Dispute Settlement Proceeding Regarding United States—Anti Dumping Measures on Corrosion-Resistant Carbon Steel Flat Products From Korea

AGENCY: Office of the United States Trade Representative.

ACTION: Notice; request for comments.

SUMMARY: The Office of the United States Trade Representative (“USTR”) is providing notice that on January 31, 2011, the Republic of Korea requested consultations with the United States under the Marrakesh Agreement Establishing the World Trade Organization (“WTO Agreement”) concerning antidumping measures regarding corrosion-resistant carbon steel flat products from Korea. That request may be found at http://www.wto.org contained in a document designated as WT/DS420/1. USTR invites written comments from the public concerning the issues raised in this dispute.

DATES: Although USTR will accept any comments received during the course of the dispute settlement proceedings, comments should be submitted on or before April 1, 2011, to be assured of timely consideration by USTR.

ADDRESSES: Public comments should be submitted electronically to http://www.regulations.gov, docket number USTR-2011-0001. If you are unable to provide submissions by http://www.regulations.gov, please contact Sandy McKinzy at (202) 395-9483 to arrange for an alternative method of transmission. If (as explained below) the comment contains confidential information, then the comment should be submitted by fax only to Sandy McKinzy at (202) 395-3640.

FOR FURTHER INFORMATION CONTACT: Leigh Bacon, Associate General Counsel, Office of the United States Trade Representative, 600 17th Street, NW., Washington, DC 20508, (202) 395-5859.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by Korea

On January 31, 2011, Korea requested consultations concerning antidumping measures regarding corrosion-resistant carbon steel flat products from Korea. Korea challenges what it describes as the “use of the practice of zeroing negative dumping margins in administrative reviews, sunset reviews, and liquidations of antidumping duties with and without reviews, concerning the case of corrosion-resistant carbon steel flat products from Korea,” as well as “the imposition of cash deposit requirements and the final assessment of antidumping duties pursuant thereto” and “the ongoing conduct reflected by the use of the zeroing methodology in successive proceedings in that case.”

Korea also states that it would like to raise the following “matters”: (1) The Tariff Act of 1930, in particular, sections 731, 751, 752, 771(35)(A) and (B), and 777A(c) and (d); (2) the Statement of Administrative Action that accompanied the Uruguay Round Agreements Act, H.R. Doc. No. 103-316, vol. I; (3) implementing regulations of the Department of Commerce, 19 CFR section 351, in particular, sections 351.212(b) and (c), 351.218, and 351.414; (4) the Import Administration Antidumping Manual (1997 edition), including the computer program(s) to which it refers; (5) the Department of Commerce Policy Bulletin 98.3, “Policies Regarding the Conduct of Five-year (`Sunset') Reviews of Antidumping and Countervailing Duty Orders” (“Sunset Policy Bulletin”), 63 FR 18871 (16 April 1998); (6) “the general procedures and methodology employed by the United States for determining dumping margins in administrative reviews, sunset reviews, and duty assessment determinations”; and (7) “the general procedures and methodology employed by the United States, in sunset reviews, for determining whether revocation of antidumping orders would be likely to lead to continuation or recurrence of dumping within a reasonably foreseeable time.”

Korea alleges inconsistencies with Articles VI:1 and VI:2 of the General Agreement on Tariffs and Trade 1994 (“GATT 1994”), Articles 1, 2.1, 2.4, 2.4.2, 3, 5.8, 9.1, 9.3, 11, 18.3, and 18.4 of the Agreement on Implementation of Article VI of the GATT 1994, and Article XVI:4 of the WTO Agreement.

Public Comment: Requirements for Submissions

Interested persons are invited to submit written comments concerning the issues raised in this dispute. Persons may submit public comments electronically to http://www.regulations.gov docket number USTR-2011-0001. If you are unable to provide submissions by http://www.regulations.gov, please contact Sandy McKinzy at (202) 395-9483 to arrange for an alternative method of transmission.

To submit comments via http://www.regulations.gov, enter docket number USTR-2011-0001 on the home page and click “search”. The site will provide a search-results page listing all documents associated with this docket. Find a reference to this notice by selecting “Notice” under “Document Type” on the left side of the search-results page, and click on the link entitled “Submit a Comment.” (For further information on using the http://www.regulations.gov website, please consult the resources provided on the website by clicking on “How to Use This Site” on the left side of the home page.)

The http://www.regulations.gov site provides the option of providing comments by filling in a “Type Comment and Upload File” field, or by attaching a document. It is expected that most comments will be provided in an attached document. If a document is attached, it is sufficient to type “See attached” in the “Type Comment and Upload File” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to http://www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and open to public inspection.

Pursuant to section 127(e) of the Uruguay Round Agreements Act (19 U.S.C. 3537(e)), USTR will maintain a docket on this dispute settlement proceeding accessible to the public. The public file will include non-confidential comments received by USTR from the public with respect to the dispute. If a dispute settlement panel is convened or in the event of an appeal from such a panel, the U.S. submissions, any non-confidential submissions, or non-confidential summaries of submissions, received from other participants in the dispute, will be made available to the public on USTR's Web site at http://www.ustr.gov, and the report of the panel, and, if applicable, the report of the Appellate Body, will be available on the website of the World Trade Organization, http://www.wto.org. Comments open to public inspection may be viewed on the http://www.regulations.gov Web site.

Bradford L. Ward,
Acting Assistant United States Trade Representative for Monitoring and Enforcement.

[FR Doc. 2011-4663 Filed 3-1-11; 8:45 am]

BILLING CODE 3190-W1-P